ENVIRONMENTAL PROTECTION AGENCY

[ER-FRL-9059-1]

Environmental Impact Statements; Notice of Availability

Responsible Agency: Office of Federal Activities, General Information 202-564-5632 or https://www.epa.gov/nepa.

Weekly receipt of Environmental Impact Statements (EIS)

Filed October 18, 2021 10 a.m. EST Through October 25, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210157, Final, FERC, AZ, North Baja Xpress Project, Review Period Ends: 11/29/2021, Contact: Office External Affairs 866-208-3372.

EIS No. 20210158, Final, USFS, MT, Helena—Lewis and Clark National Forest 2021 Land Management Plan, Review Period Ends: 11/29/2021, Contact: Deborah Entwistle 406-449-5201.

EIS No. 20210159, Draft Supplement, USFWS, AZ, Proposed Revision to the Regulations for the Nonessential Experimental Population of the Mexican Wolf, Comment Period Ends: 01/27/2022, Contact: Brady McGee 505-761-4748.

EIS No. 20210160, Draft, BOEM, AK, Cook Inlet Planning Area Oil and Gas Lease Sale 258, Comment Period Ends: 12/13/2021, Contact: Tyler Moore 907-334-5200.

EIS No. 20210161, Draft Supplement, USCG, MARAD, TX, SPOT Deepwater Port, Comment Period Ends: 12/13/2021, Contact: Matthew Layman 202-372-1421.

EIS No. 20210162, Draft, USCG, MARAD, TX, Blue Water Offshore Port Deepwater Port Application, Comment Period Ends: 12/13/2021, Contact: Ken Smith 202-372-1413.

EIS No. 20210163, Draft, BIA, NM, Navajo Nation Integrated Weed Management Plan, Comment Period Ends: 12/13/2021, Contact: Leonard Notah 505-863-8287.

Dated: October 25, 2021.
Cindy S. Barger,
Director, NEPA Compliance Division, Office of Federal Activities.

[FR Doc. 2021-23594 Filed 10-28-21; 8:45 am]

BILLING CODE 6560-50-P